DEPARTMENT OF STATE

[Public Notice 4775]

Shipping Coordinating Committee; Notice of Meetings

The Working Group on Radio Communications and Search and Rescue of the Subcommittee on Safety of Life at Sea will conduct open meetings at 1 PM on Thursday August 19 (Room 3200), and 9 a.m. on September 23 (Room 6244-46), October 14 (Room 6244-46), November 18 and December 16, 2004 and January 13, 2005.

The meetings will be held at the Department of Transportation Headquarters Building, 400 Seventh Street SW., Washington, DC 20950. Call the point of contact below for room numbers. The purpose of this meeting is to prepare for the Ninth Session of the International Maritime Organization (IMO) Subcommittee on Radiocommunications and Search and Rescue, which is scheduled for the week of February 7-11, 2005, at IMO headquarters in London, England.

The primary matters to be considered are:

—Maritime Safety Information for GMDSS

—Development of a procedure for recognition of mobile satellite systems

—Large passenger ship safety

—Emergency radio communications, including false alerts and interference

—Issues related to maritime security

—Matters concerning Search and Rescue

—Developments in maritime radiocommunication systems and technology

—Planning for the 10th session of COMSAR

Members of the public may attend these meetings up to the seating capacity of the rooms. Interested persons may seek information, including meeting room numbers, or by writing: Mr. Russell S. Levin, U.S. Coast Guard Headquarters, Commandant (CG-622), Room 6611, 2100 Second Street, SW., Washington, DC 20593-0001, by calling: (202) 267-1389, or by sending Internet electronic mail to rlevin@comdt.uscg.mil and viewing http://www.navcen.uscg.gov/marcomms/imo/meetings.htm.

Dated: July 21, 2004.
Clay Diamond,
Executive Secretary, Shipping Coordinating Committee, Department of State.

[FR Doc. 04-17311 Filed 7-28-04; 8:45 am]

BILLING CODE 4710-09-P